DEPARTMENT OF TRANSPORTATION

Federal Transit Administration

Federal Highway Administration

Designation of Transportation Management Areas

AGENCIES: Federal Transit Administration (FTA), Federal Highway Administration (FHWA), DOT.

ACTION: Notice of designation.

SUMMARY: The Federal Transit Administration (FTA) and the Federal Highway Administration (FHWA) are announcing that all urbanized areas (UZAs) with populations greater than 200,000 as determined by the 2000 Census, are hereby designated as Transportation Management Areas (TMAs). The FTA and the FHWA are taking this action in compliance with the agencies' authorizing statutes, 23 U.S.C. 134, and 49 U.S.C. 5305. This action supersedes the agencies' designations of TMAs made in the Federal Register on May 18, 1992, at 57 FR 21160.

DATES: This notice is effective July 8, 2002.

FOR FURTHER INFORMATION CONTACT: For FTA related questions, Paul L. Verchinski, Office of Planning Operations (TPL-11), (202) 366-1626, Federal Transit Administration, 400 Seventh Street SW., Washington, DC 20590. e-mail: Paul.verchinski@fta.dot.gov. Scott Biehl, Office of Chief Counsel (TCC), (202) 366-4063, Federal Transit Administration, 400 Seventh Street SW., Washington, DC 20590. e-mail: scott.biehl@fta.dot.gov. Office hours for the FTA are from 8:30 a.m. to 5 p.m., e.t., Monday through Friday, except Federal holidays.

For FHWA related questions, Sheldon Edner, Office of Metropolitan Planning (HEPM), (202) 366-4066, Federal Highway Administration, 400 Seventh Street SW., Washington, DC 20590. e-mail: sheldon.edner@fhwa.dot.gov. Reid Alsop, Office of Chief Counsel (HCC), (202) 366-1371, Federal Highway Administration, 400 Seventh Street SW., Washington, DC 20590. e-mail: reid.alsop@fhwa.dot.gov. Office hours are from 7:45 a.m. to 4:15 p.m., e.t., Monday through Friday, except Federal holidays.

SUPPLEMENTARY INFORMATION: Titles 23 and 49 of the United States Code (23 U.S.C. 134 (i), and 49 U.S.C. 5305, respectively) require the Secretary of Transportation to designate urbanized areas over 200,000 population as Transportation Management Areas (TMAs). A number of Census Bureau defined areas across the United States have recently exceeded 200,000 in population as determined by the 2000 Census. Accordingly, this notice hereby designates such areas as TMAs. Designated TMAs are subject to special planning and programming requirements. The FTA and the FHWA have developed a series of “Questions and Answers” related to applying 2000 Census data to Urbanized and Urban areas in the FTA and FHWA planning processes. More information can be found at http://www.fhwa.dot.gov/planning/census/faqa2cdt.htm or http://www.fta.dot.gov/library/planning/census/qa.html. These requirements apply to the metropolitan planning area that must be determined jointly under 23 U.S.C. 134(c), and 49 U.S.C 5303(d).

Additional areas shall be designated as TMAs upon request of the Governor and the MPO or affected local officials. Notification of any additional TMAs will be issued through a Secretarial Memorandum to the appropriate State Governors and MPOs, not as a notice published in the Federal Register. The UZAs with populations over 200,000, which are hereby designated as TMAs, are listed below. Three areas were previously designated TMAs at Gubernatorial request; Santa Barbara, California; Southern New Jersey, New Jersey; and Petersburg, Virginia. Of these three areas, only Santa Barbara, California did not meet the statutory population threshold for formal designation. However, Santa Barbara continues to be designated as a TMA as a result of the previous request.

There have been significant changes in the Census 2000 universe of urbanized areas from those defined, based on the 1990 census and criteria. These changes include new areas, areas formed by splits or mergers, name changes, and areas with significant boundary changes.

For multi-state urbanized areas over 200,000 population, the urbanized area is listed under the State with the largest share of the population. However, the TMA designation applies to the entire multi-state urbanized area. Montgomery, Alabama was previously designated a TMA, but fell below 200,000 in population and thus no longer meets the minimum population threshold to be classified as a TMA and is not included in the list of TMAs. Lorain-Elyria, Ohio was also previously designated as a TMA but is not included in the current list, since its Census designated population no longer meets the 200,000 threshold after a portion of the area has been absorbed by another, larger TMA (Cleveland).

The Census Bureau defined the Census 2000 urbanized areas using the criteria published in the Federal Register on March 15, 2002 (67 FR 11663). As a result of using these definitions, there were significant changes in the Census 2000 universe of urbanized areas from those defined, based on the 1990 census and criteria. A detailed description of the terminology and changes noted in the column entitled “Area Comparison to 1990 Census TMAs” is presented in the Census Bureau's notice of “Qualifying Urban Areas for Census 2000” in the Federal Register on May 1, 2002 (67 FR 21961).

Authority: 23 U.S.C. 315; 23 U.S.C. 134(i), 49 U.S.C. 5305, 49 CFR 1.48 and 1.51.

Issued on: July 1, 2002.
Jennifer L. Dorn,
Federal Transit Administrator.
Mary E. Peters,
Federal Highway Administrator.

State/urbanized area (UZA) | UZA 2000 population | Area comparison to 1990 Census TMAs; population
Alabama
Birmingham, AL | 663,615 | No change.
Mobile, AL | 317,605 | No change.
Huntsville, AL | 213,253 | New TMA.
State Total | 1,194,473
Alaska
Anchorage, AK | 225,744 | Reduced in Geographic Area.
State Total | 225,744
Arizona
Phoenix—Mesa, AZ | 2,907,049 | No change.
Tucson, AZ | 720,425 | Reduced in Geographic Area.
State Total | 3,627,474
Arkansas
Little Rock, AR | 360,331 | Name Change.
State Total | 360,331
California
Los Angeles—Long Beach—Santa Ana, CA | 11,789,487 | TMA formed by UA split.
San Francisco—Oakland, CA | 2,995,769 | Increased in Geographic Area.
San Diego, CA | 2,674,436 | No change.
San Jose, CA | 1,538,312 | Reduced in Geographic Area.
Riverside—San Bernardino, CA | 1,506,816 | No change.
Sacramento, CA | 1,393,498 | No change.
Fresno, CA | 554,923 | No change.
Concord, CA | 552,624 | TMA formed by UA split.
Mission Viejo, CA | 533,015 | TMA formed by UA split.
Bakersfield, CA | 396,125 | No change.
Oxnard, CA | 337,591 | TMA formed by UA split.
Stockton, CA | 313,392 | No change.
Modesto, CA | 310,945 | No change.
Santa Rosa, CA | 285,408 | New TMA.
Lancaster—Palmdale, CA | 263,532 | New TMA.
Indio—Cathedral City—Palm Springs, CA | 254,856 | TMA formed by UA merger with Name Change.
San Rafael—Novato, CA | 232,836 | TMA formed by UA split.
Temecula—Murrieta, CA | 229,810 | No change.
Antioch, CA | 217,591 | New TMA with Name Change.
Thousand Oaks, CA | 210,990 | TMA formed by UA split.
Victorville—Hesperia—Apple Valley, CA | 200,436 | New TMA with Name Change.
State Total | 26,792,392
Colorado
Denver—Aurora, CO | 1,984,887 | Name Change.
Colorado Springs, CO | 466,122 | No change.
Fort Collins, CO | 206,633 | New TMA.
State Total | 2,657,642
Connecticut
Bridgeport—Stamford, CT—NY | 888,890 | TMA formed by UA merger with Name Change.
Hartford, CT | 851,535 | TMA formed by UA merger with Name Change.
New Haven, CT | 531,314 | Name Change.
State Total | 2,271,739
Delaware
State Total
District of Columbia
Washington, DC—VA—MD | 3,933,920 | Name Change.
State Total | 3,933,920
Florida
Miami, FL | 4,919,036 | TMA formed by UA merger with Name Change.
Tampa—St. Petersburg, FL | 2,062,339 | Name Change.
Orlando, FL | 1,157,431 | Reduced in Geographic Area.
Jacksonville, FL | 882,295 | No change.
Sarasota—Bradenton, FL | 559,229 | No change.
Palm Bay—Melbourne, FL | 393,289 | No change.
Cape Coral, FL | 329,757 | Name Change.
Pensacola, FL-AL | 323,783 | Name Change.
Port St. Lucie, FL | 270,774 | TMA formed by UA merger with Name Change.
Daytona Beach—Port Orange, FL | 255,353 | Name Change.
Bonita Springs—Naples, FL | 221,251 | New TMA with Name Change.
Tallahassee, FL | 204,260 | New TMA.
State Total | 11,578,797
Georgia
Atlanta, GA | 3,499,840 | No change.
Augusta—Richmond County, GA—SC | 335,630 | Name Change.
Columbus, GA—AL | 242,324 | No change.
Savannah, GA | 208,886 | New TMA, Reduced in Geographic Area.
State Total | 4,286,680
Hawaii
Honolulu, HI | 718,182 | No change.
State Total | 718,182
Idaho
Boise City, ID | 272,625 | New TMA.
State Total | 272,625
Illinois
Chicago, IL—IN | 8,307,904 | TMA formed by UA merger with Name Change.
Rockford, IL | 270,414 | Increased in Geographic Area.
Peoria, IL | 247,172 | No change.
Round Lake Beach—McHenry—Grayslake, IL—WI | 226,848 | New TMA.
State Total | 9,052,338
Indiana
Indianapolis, IN | 1,218,919 | No change.
Fort Wayne, IN | 287,759 | No change.
South Bend, IN—MI | 276,498 | Name Change.
Evansville, IN—KY | 211,989 | New TMA.
State Total | 1,995,165
Iowa
Des Moines, IA | 370,505 | No change.
Davenport, IA—IL | 270,626 | Name Change.
State Total | 641,131
Kansas
Wichita, KS | 422,301 | No change.
State Total | 422,301
Kentucky
Louisville, KY—IN | 863,582 | No change.
Lexington—Fayette, KY | 250,994 | No change.
State Total | 1,114,576
Louisiana
New Orleans, LA | 1,009,283 | No change.
Baton Rouge, LA | 479,019 | No change.
Shreveport, LA | 275,213 | No change.
State Total | 1,763,515
Maine
State Total
Maryland
Baltimore | 2,076,354 | TMA formed by UA merger with Name Change.
State Total | 2,076,354
Massachusetts
Boston, MA—NH—RI | 4,032,484 | TMA formed by UA merger with Name Change.
Springfield, MA—CT | 573,610 | No change.
Worcester, MA—CT | 429,882 | No change.
Barnstable Town, MA | 243,667 | New TMA.
State Total | 5,279,643
Michigan
Detroit, MI | 3,903,377 | No change.
Grand Rapids, MI | 539,080 | No change.
Flint, MI | 365,096 | No change.
Lansing, MI | 300,032 | Name Change.
Ann Arbor, MI | 283,904 | No change.
State Total | 5,391,489
Minnesota
Minneapolis—St. Paul, MN | 2,388,593 | No change.
State Total | 2,388,593
Mississippi
Jackson, MS | 292,637 | Reduced in Geographic Area.
Gulfport—Biloxi, MS | 205,754 | New TMA.
State Total | 498,391
Missouri
St. Louis, MO—IL | 2,077,662 | No change.
Kansas City, MO—KS | 1,361,744 | TMA formed by UA split.
Springfield, MO | 215,004 | New TMA.
State Total | 3,654,410
Montana
State Total
Nebraska
Omaha, NE—IA | 626,623 | No change.
Lincoln, NE | 226,582 | New TMA.
State Total | 853,205
Nevada
Las Vegas, NV | 1,314,357 | No change.
Reno, NV | 303,689 | No change.
State Total | 1,618,046
New Hampshire
State Total
New Jersey
Atlantic City, NJ | 227,180 | New TMA.
Trenton, NJ | 268,472 | Name Change.
State Total | 495,652
New Mexico
Albuquerque, NM | 598,191 | No change.
State Total | 598,191
New York
New York—Newark, NY—NJ—CT | 17,799,861 | Name Change, Reduced in Geographic Area.
Buffalo, NY | 976,703 | Name Change.
Rochester, NY | 694,396 | No change.
Albany, NY | 558,947 | Name Change.
Syracuse, NY | 402,267 | No change.
Poughkeepsie—Newburgh, NY | 351,982 | TMA formed by UA merger with Name Change.
State Total | 20,784,156
North Carolina
Charlotte, NC—SC | 758,927 | Name Change, Increased in Geographic Area.
Raleigh, NC | 541,527 | No change.
Winston-Salem, NC | 299,290 | New TMA.
Durham, NC | 287,796 | No change.
Fayetteville, NC | 276,368 | No change.
Greensboro, NC | 267,884 | New TMA.
Asheville, NC | 221,570 | New TMA.
State Total | 2,653,362
North Dakota
State Total
Ohio
Cleveland, OH | 1,786,647 | No change.
Cincinnati, OH—KY—IN | 1,503,262 | Name Change, Increased in Geographic Area.
Columbus, OH | 1,133,193 | No change.
Dayton, OH | 703,444 | Increased in Geographic Area.
Akron, OH | 570,215 | Reduced in Geographic Area.
Toledo, OH—MI | 503,008 | No change.
Youngstown, OH—PA | 417,437 | TMA formed by UA merger with Name Change.
Canton, OH | 266,595 | No change.
State Total | 6,883,801
Oklahoma
Oklahoma City, OK | 747,003 | No change.
Tulsa, OK | 558,329 | No change.
State Total | 1,305,332
Oregon
Portland, OR—WA | 1,583,138 | Name Change.
Eugene, OR | 224,049 | New TMA.
Salem, OR | 207,229 | New TMA.
State Total | 2,014,416
Pennsylvania
Philadelphia, PA—NJ—DE—MD | 5,149,079 | TMA formed by UA merger with Name Change.
Pittsburgh, PA | 1,753,136 | No change.
Allentown—Bethlehem, PA—NJ | 576,408 | Name Change.
Scranton, PA | 385,237 | Name Change.
Harrisburg, PA | 362,782 | No change.
Lancaster, PA | 323,554 | New TMA.
Reading, PA | 240,264 | New TMA.
State Total | 8,790,460
Rhode Island
Providence, RI—MA | 1,174,548 | TMA formed by UA merger with Name Change.
State Total | 1,174,548
South Carolina
Charleston—North Charleston, SC | 423,410 | Name Change.
Columbia, SC | 420,537 | No change.
Greenville, SC | 302,194 | No change.
State Total | 1,146,141
South Dakota
State Total
Tennessee
Memphis, TN—MS—AR | 972,091 | Name Change.
Nashville-Davidson, TN | 749,935 | Name Change.
Knoxville, TN | 419,830 | No change.
Chattanooga, TN—GA | 343,509 | No change.
State Total | 2,485,365
Texas
Dallas—Fort Worth—Arlington, TX | 4,145,659 | Name Change.
Houston, TX | 3,822,509 | Increased in Geographic Area.
San Antonio, TX | 1,327,554 | No change.
Austin, TX | 901,920 | No change.
El Paso, TX | 674,801 | No change.
McAllen, TX | 523,144 | Name Change.
Denton—Lewisville, TX | 299,823 | TMA formed by UA merger with Name Change.
Corpus Christi, TX | 293,925 | No change.
Lubbock, TX | 202,225 | New TMA.
State Total | 12,191,560
Utah
Salt Lake City, UT | 887,650 | Reduced in Geographic Area.
Ogden—Layton, UT | 417,933 | Name Change, Increased in Geographic Area.
Provo—Orem, UT | 303,680 | No change.
State Total | 1,609,263
Vermont
State Total
Virginia
Virginia Beach, VA | 1,394,439 | Name Change, Reduced in Geographic Area.
Richmond, VA | 818,836 | TMA formed by UA merger with Name Change.
State Total | 2,213,275
Washington
Seattle, WA | 2,712,205 | TMA formed by UA split with UA merger.
Spokane, WA—ID | 334,858 | Name Change.
State Total | 3,047,063
West Virginia
State Total
Wisconsin
Milwaukee, WI | 1,308,913 | No change.
Madison, WI | 329,533 | No change.
State Total | 1,638,446
Wyoming
State Total
Puerto Rico
San Juan, PR | 2,216,616 | TMA formed by UA merger with Name Change.
Aguadilla—Isabela—San Sebastian, PR | 299,086 | New TMA with Name Change.
State Total | 2,515,702
U.S. Totals | 163,700,187
U.S. & Puerto Rico Totals | 166,215,889

[FR Doc. 02-16998 Filed 7-5-02; 8:45 am]

BILLING CODE 4910-22-P